NATIONAL CREDIT UNION ADMINISTRATION

Sunshine Act Meeting

ACTION: Notice of meeting.

Time and Date: 10 a.m., Thursday, September 23, 2004.

Place: Board Room, 7th Floor, Room 7047, 1775 Duke Street, Alexandria, VA 22314-3428.

Status: Open.

Matters To Be Considered: (1) Request from a Federal Credit Union to Expand its Community Charter.

(2) Requests form two (2) Federal Credit Unions to Convert to Community Charters.

(3) Notice and Request for Comment—Federal Credit Union Bylaws.

(4) Final Rule: Section 701.36 of NCUA's Rules and Regulations, Federal Credit Union Ownership of Fixed Assets.

FOR FURTHER INFORMATION CONTACT: Mary Rupp, Secretary of the Board, Telephone: (703) 518-6304

Mary Rupp,
Secretary of the Board.

[FR Doc. 04-21250 Filed 9-17-04; 8:53 am]

BILLING CODE 7535-01-M